SMALL BUSINESS ADMINISTRATION

[Declaration of Disaster #3399]

State of Ohio; Disaster Loan Areas

Lawrence County and the contiguous Counties of Gallia, Jackson and Scioto in the State of Ohio; Boyd and Greenup Counties in the Commonwealth of Kentucky; and Cabell and Wayne Counties in the State of West Virginia constitute a disaster area due to damages caused by severe storms and flooding that began on March 15, 2002 and continued through March 20, 2002. Applications for loans for physical damage may be filed until the close of business on May 28, 2002, and for economic injury until the close of business on December 30, 2002, at the address listed below or other locally announced locations: U.S. Small Business Administration, Disaster Area 2 Office, One Baltimore Place, Suite 300, Atlanta, GA 30308.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The numbers assigned to this disaster for physical damage are 339906 for Ohio; 340006 for Kentucky; and 340106 for West Virginia. The numbers assigned to this disaster for economic injury are 9O9900 for Ohio; 9P0100 for Kentucky; and 9P0200 for West Virginia.

(Catalog of Federal Domestic Assistance Program Nos. 59002 and 59008.)
Dated: March 29, 2002.
Hector V. Barreto,
Administrator.

[FR Doc. 02-8220 Filed 4-4-02; 8:45 am]

BILLING CODE 8025-01-P